DEPARTMENT OF DEFENSE

Office of the Secretary

[Docket ID DoD-2014-OS-0064]

Privacy Act of 1974; System of Records

AGENCY: National Geospatial-Intelligence Agency, DoD.

ACTION: Notice to alter a system of records.

SUMMARY: The National Geospatial-Intelligence Agency is altering a system of records, NGA-004, entitled “NGA Threat Mitigation Records”, in its inventory of record systems subject to the Privacy Act of 1974, as amended. This system allows NGA to collect, use, maintain, and disseminate information to facilitate NGA's counterintelligence activities, including activities related to international counterterrorism.

DATES: Comments will be accepted on or before June 6, 2014. This proposed action will be effective the day following the end of the comment period unless comments are received which result in a contrary determination.

ADDRESSES: You may submit comments, identified by docket number and title, by any of the following methods:

*Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpclo.defense.gov/.

The proposed system report, as required by 5 U.S.C. 552a(r) of the Privacy Act of 1974, as amended, was submitted on October 18, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 2, 2014.
Aaron Siegel,
Alternate OSD Federal Register Liaison Officer, Department of Defense.

NGA-004

System name:

NGA Threat Mitigation Records (May 31, 2013, 78 FR 32635) Changes:

* * * * *

Safeguards:

Delete entry and replace with “The records are stored on a secure enclave system and are safeguarded in accordance with applicable rules and policies, including all applicable NGA automated systems security and access policies. Strict controls have been imposed to minimize the risk of compromising the information that is being stored. Access to the computer system containing the records in this system is limited to those individuals who have a need to know the information for the performance of their official duties and who have appropriate clearances or permissions. Usage of physical access controls, encryption, monitoring and auditing mechanisms protect the information stored on the system.”

Retention and disposal:

Delete entry and replace with “Retain locally and review annually. Destroy/delete 2 years after completion of final action. If still needed for Agency business, records may be retained for up to 10 years.”

System manager(s) and address:

Delete entry and replace with “Security and Installation Counterespionage Division, Fusion Branch (SICCC), National Geospatial-Intelligence Agency (NGA), 7500 GEOINT Drive, Springfield, VA 22150.”

* * * * *

Record source categories:

Delete entry and replace with “Records are received from the JUSTICE/FBI-019 Terrorist Screening Records System, system of records notice published in the Federal Register (76 FR 77846, December 14, 2011). In addition, information contained in this system is obtained from subject individuals; other Federal, State, local and foreign agencies and organizations; hard-copy media, including periodicals, newspapers, and broadcast transcripts, and commercial and public record databases and Web sites; public and classified reporting, intelligence source documents, investigative reports, and correspondence.”

Exemptions claimed for the system:

Delete entry and replace with “Exempt materials from JUSTICE/FBI—019 Terrorist Screening Records System and/or other sources listed above may become part of the case records in this system of records. To the extent that copies of exempt records from JUSTICE/FBI—019, Terrorist Screening Records System, and/or other sources listed above are entered into these Threat Mitigation case records, NGA hereby claims the same exemptions, (j)(2) and (k)(2) for the records as claimed in JUSTICE/FBI—019, Terrorist Screening Records system of records of which they are a part as reflected in the final rule published on May 31, 2013, 78 FR 32554.

Information specifically authorized to be classified under E.O. 12958, as implemented by DoD 5200.1-R, may be exempt pursuant to 5 U.S.C. 552a(k)(1).

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2) and (3)(c) and (e) and it published at 32 CFR part 320.”

[FR Doc. 2014-10433 Filed 5-6-14; 8:45 am]

BILLING CODE 5001-06-P